DEPARTMENT OF COMMERCE

National Oceanic and Atmospheric Administration

Ocean Exploration Advisory Board Public Meeting

AGENCY: National Oceanic and Atmospheric Administration (NOAA), Department of Commerce.

ACTION: Notice of public meeting.

SUMMARY: This notice sets forth the schedule and proposed agenda for a meeting of the Ocean Exploration Advisory Board (Board), a non-discretionary Federal Advisory Committee.

DATES: The meeting is scheduled for Wednesday March 18, 2026 from 9 a.m.-4 p.m. (CDT) and Thursday March 19, 2026 from 9 a.m.-4 p.m. (CDT).

ADDRESSES: Not applicable; this meeting will be conducted online only.

FOR FURTHER INFORMATION CONTACT: Liz Tirpak, Designated Federal Officer, or Gretchen Spencer, Alternate Designated Federal Officer, via email: oceanexplorer@noaa.gov or phone: 301-734-1226.

SUPPLEMENTARY INFORMATION: The Board was established (per 33 U.S.C. 3405) to advise NOAA leadership on priority areas for survey, discovery, and opportunities for extramural collaboration and partnerships; development of a 5-year strategic plan for the fields of ocean, marine, and Great Lakes science, exploration, and discovery; the quality and effectiveness of the proposal review process; market barriers to development or commercialization of novel ocean mapping, exploration, and characterization products, processes, and tools; best practices to improve data management, processing, storage, and archiving standards; and other matters as requested by the NOAA Administrator.

Matters To Be Considered: Board members will receive agency updates and discuss recommendations for NOAA leadership. Detailed agenda and meeting materials will be posted on the Board website at https://oeab.noaa.gov/meetings/2026-oeab-meetings/.

Public Comment Instructions: The meeting will be open to the public with a public comment period on Wednesday, March 18 at 3:35 p.m. CST. Registration is required; use this link https://forms.gle/2DkS5SMHJsAH3Rjy9 to register attendance and/or public comments in advance. In general, each individual or group delivering public comments will be limited to a total time of three (3) minutes. The Board will not consider public comments beyond the scope of the Board's remit or public comments located outside of the primary submission (i.e., not on the web, cloud, or other file sharing system). Comments that contain profanity, vulgarity, threats, or other inappropriate language will also not be considered. This public meeting will be recorded for use in preparation of minutes. If you have a public comment, you acknowledge that you will be recorded and are aware you can opt out of the meeting. Participation in the meeting constitutes consent to the recording.

Special Accommodations: The Board meeting is accessible to people with disabilities, as Webex offers closed captioning. Questions regarding additional accommodations should be directed to the Designated Federal Officer via email: oceanexplorer@noaa.gov by Tuesday, March 5, 2026.

Nikola Garber,
Deputy Director, National Sea Grant College Program Office of Oceanic and Atmospheric Research, National Oceanic and Atmospheric Administration.

[FR Doc. 2026-03815 Filed 2-25-26; 8:45 am]

BILLING CODE 3510-KA-P